DEPARTMENT OF THE INTERIOR

National Park Service

[NPS-WASO-NAGPRA-NPS0034593; PPWOCRADN0-PCU00RP14.R50000]

Notice of Inventory Completion: William and Mary, Department of Anthropology, Williamsburg, VA

AGENCY: National Park Service, Interior.

ACTION: Notice.

SUMMARY: The William and Mary, Department of Anthropology has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to William and Mary's Anthropology Department. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to William and Mary's Anthropology Department at the address in this notice by November 10, 2022.

FOR FURTHER INFORMATION CONTACT: Martin Gallivan, Anthropology Department, William and Mary, P.O. Box 8795, Williamsburg, VA 23187-8795, telephone (757) 221-3622, email mdgall@wm.edu.

SUPPLEMENTARY INFORMATION: Notice is here given in accordance with the Native American Graves Protection and Repatriation Act (NAGPRA), 25 U.S.C. 3003, of the completion of an inventory of human remains under the control of William and Mary, Department of Anthropology, Williamsburg, VA. The human remains were removed from Smyth County, VA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by William and Mary's Anthropology Department professional staff in consultation with representatives of the Chickahominy Indian Tribe; Monacan Indian Nation; Nansemond Indian Nation (previously listed as Nansemond Indian Tribe); Pamunkey Indian Tribe; Rappahannock Tribe, Inc.; Upper Mattaponi Tribe; and the Mattaponi Indian Tribe, a non-federally recognized Indian group (hereafter referred to as “The Consulted Tribes and Group”).

History and Description of the Remains

At an unknown date, human remains representing, at minimum, two individuals were removed from Smyth County, VA. Writing on one of the skeletal elements (a cranium) states “Found in a dry cave near Saltville, Smyth Co. VA.” The exact site is uncertain but is possibly Site 44SM0028. The human remains have been in the possession of William and Mary's Anthropology Department since the 1960s and might have been acquired by the College in 1963. Collectively, the two individuals are represented by one cranium, one cranial vault, and a set of teeth embedded in soil. No known individuals were identified. No associated funerary objects are present.

The Monacan Indian Nation of Virginia and the Cherokee Tribes including Cherokee Nation, Eastern Band of Cherokee Indians, and United Keetoowah Band of Cherokee Indians, consider Smyth County to encompass their ancestral and historic territory. This oral traditional information is supported by archival, ethnographic, archeological, and oral history studies.

Determinations Made by the William and Mary, Department of Anthropology

Officials of the William and Mary, Department of Anthropology have determined that:

• Pursuant to 25 U.S.C. 3001(9), the human remains described in this notice represent the physical remains of two individuals of Native American ancestry.

• Pursuant to 25 U.S.C. 3001(2), there is a relationship of shared group identity that can be reasonably traced between the Native American human remains and the Cherokee Nation; Eastern Band of Cherokee Indians; Monacan Indian Nation; and the United Keetoowah Band of Cherokee Indians (hereafter referred to as “The Tribes”).

Additional Requestors and Disposition

Lineal descendants or representatives of any Indian Tribe or Native Hawaiian organization not identified in this notice that wish to request transfer of control of these human remains should submit a written request with information in support of the request to Martin Gallivan, Anthropology Department, College of William and Mary, P.O. Box 8795, Williamsburg, VA 23187-8795, telephone (757) 221-3622, email mdgall@wm.edu, by November 10, 2022. After that date, if no additional requestors have come forward, transfer of control of the human remains to The Tribes may proceed.

The William and Mary, Department of Anthropology is responsible for notifying The Tribes and The Consulted Tribes and Group that this notice has been published.

Dated: September 27, 2022.
Melanie O'Brien,
Manager, National NAGPRA Program.

[FR Doc. 2022-22042 Filed 10-7-22; 8:45 am]

BILLING CODE 4312-52-P